ENVIRONMENTAL PROTECTION AGENCY

[EPA-HQ-OGC-2021-0725; FRL-9152-01-OGC]

Proposed Consent Decree, Clean Air Act Citizen Suit

AGENCY: Environmental Protection Agency (EPA).

ACTION: Notice of proposed consent decree; request for public comment.

SUMMARY: In accordance with the Clean Air Act, as amended (CAA or the Act), notice is given of a proposed consent decree in Our Children's Earth Foundation v. Regan, No. 20-cv-8530 (N.D. Cal.). On December 2, 2020 and July 9, 2021, Our Children's Earth Foundation filed a complaint and an amended complaint, respectively, in the United States District Court for the Northern District of California, to compel the Administrator to assemble, publish, and publish notice of comprehensive documents setting forth the requirements of the state implementation plans (“SIPs”) for all 50 states of the United States, the District of Columbia, the Commonwealth of Puerto Rico, the Virgin Islands, Guam, American Samoa, and the Commonwealth of the Northern Mariana Islands (collectively the “States”). The proposed consent decree would establish deadlines for EPA to take specified actions.

DATES: Written comments on the proposed consent decree must be received by November 22, 2021.

ADDRESSES: Submit your comments, identified by Docket ID No. EPA-HQ-OGC-2021-0725, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Consent Decree” heading under the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand deliveries and couriers may be received by scheduled appointment only. For further information on EPA Docket Center services and the current status, please visit us online at https://www.epa.gov/dockets.

EPA continues to carefully and continuously monitor information from the CDC, local area health departments, and our federal partners so that we can respond rapidly as conditions change regarding COVID-19.

FOR FURTHER INFORMATION CONTACT: Charles Starrs, Air and Radiation Law Office (2344A), Office of General Counsel, U.S. Environmental Protection Agency, 1200 Pennsylvania Ave. NW, Washington, DC 20460; telephone (202) 564-1996; email address starrs.charles@epa.gov.

SUPPLEMENTARY INFORMATION:

I. Obtaining a Copy of the Proposed Consent Decree

The official public docket for this action (identified by Docket ID No. EPA-HQ-OGC-2021-0725) contains a copy of the proposed consent decree.

The electronic version of the public docket for this action contains a copy of the proposed consent decree and is available through https://www.regulations.gov. You may use https://www.regulations.gov to submit or view public comments, access the index listing of the contents of the official public docket, and access those documents in the public docket that are available electronically. Once in the system, key in the appropriate docket identification number then select “search.”

II. Additional Information About the Proposed Consent Decree

The proposed consent decree would fully resolve Our Children's Earth Foundation. v. Regan, No. 20-cv-8530 (N.D. CA.) (the Litigation). The Litigation claimed that CAA section 110(h)(1) required EPA to periodically publish comprehensive documents setting out the States' SIP requirements and also required EPA to periodically publish notice in the Federal Register of the availability of such documents. The Litigation also claimed that EPA had failed to comply with the requirements of CAA section 110(h)(1). Under the terms of the proposed consent decree, no later than December 31, 2021, EPA will assemble and publish online on EPA-managed or controlled websites the “SIP Rules” for all States, except for California, Connecticut, North Carolina, Wisconsin, Puerto Rico, and the U.S. Virgin Islands. The information published by that date will include SIP Rule revisions and submittals finally approved by EPA and published in the Federal Register on or before November 30, 2021. In addition, under the terms of the proposed consent decree, no later than September 30, 2022, EPA will assemble and publish online on EPA-managed or controlled websites the SIP Rules, including SIP Rule revisions and submittals finally approved by EPA and published in the Federal Register on or before August 31, 2022, for every State. The proposed consent decree does not require EPA to publish “SIP Plans,” consisting of various nonregulatory or quasi-regulatory plans or material, as distinct from SIP Rules. The proposed consent decree also provides that, not later than November 30, 2022, EPA shall submit to the Office of the Federal Register, for publication in the Federal Register, a notice of availability of the SIP Rules information published by EPA on EPA-managed or controlled websites. See the proposed consent decree in the docket for other terms and conditions.

In accordance with section 113(g) of the CAA, for a period of thirty (30) days following the date of publication of this document, the Agency will accept written comments relating to the proposed consent decree. EPA or the Department of Justice may withdraw or withhold consent to the proposed consent decree if the comments disclose facts or considerations that indicate that such consent is inappropriate, improper, inadequate, or inconsistent with the requirements of the Act.

III. Additional Information About Commenting on the Proposed Consent Decree

Submit your comments, identified by Docket ID No. EPA-HQ-OGC-2021-0725, via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Gautam Srinivasan,
Associate General Counsel.

[FR Doc. 2021-23042 Filed 10-21-21; 8:45 am]

BILLING CODE 6560-50-P